DEPARTMENT OF HOUSING AND URBAN DEVELOPMENT

[Docket No. FR-5681-N-16]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Flavio Peres, General Services Administration, Office of Real Property Utilization and Disposal, 1800 F Street NW. Room 7040 Washington, DC 20405, (202) 501-0084; (This is not toll-free numbers).

Dated: April 11, 2013.
Mark Johnston,
Deputy Assistant Secretary for Special Needs.

TITLE V, FEDERAL SURPLUS PROPERTY PROGRAM FEDERAL REGISTER REPORT FOR 04/19/2013

Suitable/Available Properties

Building

Alaska

3 Buildings

Barrow Magnetic Observatory

Barrow AK 99723

Landholding Agency: GSA

Property Number: 54201240011

Status: Excess

GSA Number: 9AK-I-0842

Directions: STORAGE: 309 sf.; SENSOR BLDG.: 225 sf.; ABSOLUTE BLDG.: 166 sf

Comments: off-site removal only; total sf. 700; good to poor conditions; major renovations needed to make bldgs. ideal to occupy; lead/asbestos; contact GSA for more info. on accessibility/removal

Nebraska

Hummel Park Radio Station

11808 John Pershing Dr.

Omaha NE 68112

Landholding Agency: GSA

Property Number: 54201240005

Status: Surplus

GSA Number: 7-D-NE-0536

Comments: bldg. 1,040 sf.; sits on 4.87 acres +\−; support for antenna operations; good conditions

Nevada

2 Buildings

Military Circle

Tonopah NV

Landholding Agency: GSA

Property Number: 54201240012

Status: Unutilized

GSA Number: 9-I-NV-514-AK

Directions: bldg. 102: 2,508 sf.; bldg. 103: 2,880 sf.

Comments: total sf. for both bldgs. 5,388; Admin.; vacant since 1998; sits on 0.747 acres; fair conditions; lead/asbestos present

Oregon

Triangle Lake Bldgs.

22650 Mapleton-Junction City Hwy

Cheshire OR 97419

Landholding Agency: GSA

Property Number: 54201240015

Status: Excess

GSA Number: 9-I-OR-0801

Directions: fuel pump bldg.: 220 sf.; vehicle maint. bldg.: 1,526 sf.

Comments: off-site removal only; vacant for 180 mons. or 15 yrs.; conditions unknown

Texas

Former Navy & Marine Corps Res

5301 Ave. South

Galveston TX 77551

Landholding Agency: GSA

Property Number: 54201240013

Status: Surplus

GSA Number: 7-D-TX-0549-9

Comments: 17,319 sf.; sits on 2.63 acres; Admin. office; fair conditions; eligible for Nat'l Register Historic Places; asbestos; access by appt. w/USACE

Wyoming

Signal Mountain Lodge Cabin

Grand Teton Nation Park

Moran WY 83013

Landholding Agency: GSA

Property Number: 54201240014

Status: Surplus

GSA Number: 7-I-WY-0475

Comments: off-site removal only; 1,830 sf. vacation cabin; moderate conditions; asbestos; access by appt. only

Land

California

Hydro Electric Power Plant

1402 San Rogue Rd.

Santa Barbara CA 93105

Landholding Agency: GSA

Property Number: 54201240009

Status: Excess

GSA Number: 9-I-CA-1693

Comments: .0997 acres; behind secured gate for Lauro Dame & Reservoir; will impact conveyance; contact GSA for more details

Tennessee

Fort Campbell Army Garrison

U.S. Hwy 79

Woodlawn TN 37191

Landholding Agency: GSA

Property Number: 54201240010

Status: Excess

GSA Number: 4-D-TN-586-2

Comments: 8 parcels; 3.41 to 13.90 acres; agricultural; adjacent to Ft. Campbell-U.S. Army Garrison; parcel 7 identified as wetlands; contact GSA for more details on specific property

Suitable/Unavailable Properties

Building

Arkansas

Sulphur Rock Radio Station

N. Main Street

Sulphur Rock AR 72579

Landholding Agency: GSA

Property Number: 54201220008

Status: Excess

GSA Number: 7-B-AR-576-AA

Comments: building #1: 152 sf.; building #2:59 sf; radio tower

Winnesburg Radio Station

SW Side of State Hwy 18 & County Rd.

Cash AR 72421

Landholding Agency: GSA

Property Number: 54201230013

Status: Excess

GSA Number: 7-B-AR-0577

Comments: 9′8″ × 15′5″; storage/office; fair conditions; need repairs

District of Columbia

West Heating Plant

1051 29th St. NW

Washington DC 20007

Landholding Agency: GSA

Property Number: 54201140006

Status: Surplus

GSA Number: DC-497-1

Comments: 1.97 acres; current use: industry; transferee is required to remediate significant contaminants which includes arsenic, PCBs, and benzo (a) pyrene; conveyance pending

Florida

4 Structures

142 Keeper's Cottage Way

Cape San Blas FL 32456

Landholding Agency: GSA

Property Number: 54201230008

Status: Surplus

GSA Number: 4-D-FL-1265AA

Directions: Cape San Blas Lighthouse, Keeper's Quarters A, Keeper's Quarter B, & an Oil/Storage Shed

Comments: UPDATE: Originally published on 8/24/2012. Availability extended to 11/06/2012 due to subsequent posting of outreach notice on 9/07/12.

Georgia

5 Acres

Former CB7 Radio Communication

Townsend GA 31331

Landholding Agency: GSA

Property Number: 54201210008

Status: Excess

GSA Number: 4-U-GA-885AA

Comments: 5.0 acres; current use: unknown; property located in 100 yr. floodplain—not in floodway and no impact in using property; contact GSA for more details

Illinois

1LT A.J. Ellison

Army Reserve

Wood River IL 62095

Landholding Agency: GSA

Property Number: 54201110012

Status: Excess

GSA Number: 1-D-II-738

Comments: 17,199 sq. ft. for the Admin. Bldg., 3,713 sq. ft. for the garage, public space (roads and hwy) and utilities easements, asbestos and lead base paint identified, most current use: unknown.

Iowa

U.S. Army Reserve

620 West 5th St.

Garner IA 50438

Landholding Agency: GSA

Property Number: 54200920017

Status: Excess

GSA Number: 7-D-IA-0510

Comments: 5743 sq. ft., presence of lead paint, most recent use—offices/classrooms/storage, subject to existing easements

NRCS-USDA Unit

1820 E. Euclid Ave.

Des Moines IA 50313

Landholding Agency: GSA

Property Number: 54201240004

Status: Excess

GSA Number: 7-A-IA-0511-AA

Directions: includes 2 Bldgs.; masonry 2,048 sf. +/−, frame 5,513 sf. +/−

Comments: bldgs. sits on .83 acres; fair conditions; equipment & material storage; driveway access easement w/adjacent property owner

Maine

Columbia Falls Radar Site

Tibbetstown Road

Columbia Falls ME 04623

Landholding Agency: GSA

Property Number: 54201140001

Status: Excess

GSA Number: 1-D-ME-0687

Directions: Buildings 1,2,3, and 4

Comments: Four bldgs. totaling 20,375 sq.; each one-story; current use: varies among properties

Maryland

Appraisers Store

null

Baltimore MD 21202

Landholding Agency: GSA

Property Number: 54201030016

Status: Excess

GSA Number: 4-G-MD-0623

Comments: Redetermination: 169,801 sq. ft., most recent use—federal offices, listed in the Nat'l Register of Historic Places, use restrictions

Consumer Products Safety Commi

10901 Darenestown Rd.

Gaithersburg MD 20878

Landholding Agency: GSA

Property Number: 54201220004

Status: Surplus

GSA Number: NCR-G-MR-1107-01

Directions: property includes building and Land

Comments: 37,543 sf.; office/warehouse space; secured area; however, will not interfere w/conveyance; contact GSA for further details

Michigan

Nat'l Weather Svc Ofc

214 West 14th Ave.

Sault Ste. Marie MI

Landholding Agency: GSA

Property Number: 54200120010

Status: Excess

GSA Number: 1-C-MI-802

Comments: previously unavailable; however, the property is `available' as a facility to assist the homess; 2230 sq. ft., presence of asbestos, most recent use—office

CPT George S. Crabbe USARC

2901 Webber Street

Saginaw MI

Landholding Agency: GSA

Property Number: 54201030018

Status: Excess

GSA Number: 1-D-MI-835

Comments: 3891 sq. ft., 3-bay garage maintenance building

Minnesota

Noyes Land Port of Entry

SW Side of US Rte. 75

Noyes MN 56740

Landholding Agency: GSA

Property Number: 54201230007

Status: Excess

GSA Number: 1-G-MN-0593

Directions: one main bldg.; one storage; approx. 16,000 and 900 sf. respectively

Comments: sits on 2.29 acres; approx. 17,000 sf. total of bldg. space; office/governmental

Missouri

Nat'l Personnel Records Center

111 Winnebago

St. Louis MO 63118

Landholding Agency: GSA

Property Number: 54201220009

Status: Excess

GSA Number: 7-G-MO-0684

Comments: 440,000 +/− sf.; two floors; storage; asbestos, lead, & high level of radon; needs remediation

Crane Radio Station

Elm Street Rd.

Marionville MO 65633

Landholding Agency: GSA

Property Number: 54201240003

Status: Excess

GSA Number: 7-B-MO-0698

Comments: 213 sf.; sits on 4.65 acres; storage

Montana

James F. Battin & Courthouse

316 North 26th Street

Billings MT 59101

Landholding Agency: GSA

Property Number: 54201210005

Status: Excess

GSA Number: 7-G-MT-0621-AB

Comments: 116,865 sf.; current use: office; extensive asbestos contamination; needs remediation

Nevada

Alan Bible Federal Bldg.

600 S. Las Vegas Blvd.

Las Vegas NV 89101

Landholding Agency: GSA

Property Number: 54201210009

Status: Excess

GSA Number: 9-G-NV-565

Comments: 81,247 sf.; current use: federal bldg.; extensive structural issues; needs major repairs; contact GSA for further details

New Jersey

Camp Petricktown Sup. Facility

US Route 130

Pedricktown NJ 08067

Landholding Agency: GSA

Property Number: 54200740005

Status: Excess

GSA Number: 1-D-NJ-0662

Comments: 21 bldgs., need rehab, most recent use—barracks/mess hall/garages/quarters/admin., may be issues w/right of entry, utilities privately controlled, contaminants

New Mexico

USDA/NRCS Grants Field Office

117 N. Silver

Grants NM 87020

Landholding Agency: GSA

Property Number: 54201220011

Status: Surplus

GSA Number: 7-A-NM-0604

Comments: 817 sf. for office bldg.; 2,714 sf. for storage; good conditions; office/storage; access will be provided by NRCS employees located in Grants, NM

North Carolina

Greenville Site

10000 Cherry Run Rd.

Greenville NC 27834

Landholding Agency: GSA

Property Number: 54201210002

Status: Unutilized

GSA Number: 4-2-NC-0753

Comments: 49,300 sq. ft.; current use: transmitter bldg.; possible PCB contamination; not available—existing Federal need

Ohio

Oxford USAR Facility

6557 Todd Road

Oxford OH 45056

Landholding Agency: GSA

Property Number: 54201010007

Status: Excess

GSA Number: 1-D-OH-833

Comments: office bldg./mess hall/barracks/simulator bldg./small support bldgs., structures range from good to needing major rehab

Army Reserve Center

5301 Hauserman Rd.

Parma OH 44130

Landholding Agency: GSA

Property Number: 54201020009

Status: Excess

GSA Number: I-D-OH-842

Comments: 29, 212, and 6,097 sq. ft.; most recent use: office, storage, classroom, and drill hall; water damage on 2nd floor; and wetland property

LTC Dwite Schaffner

U.S. Army Reserve Center

1011 Gorge Blvd.

Akron OH 44310

Landholding Agency: GSA

Property Number: 54201120006

Status: Excess

GSA Number: 1-D-OH-836

Comments: 25,039 sq. ft., most recent use: Office; in good condition

Oklahoma

Lamar Radio Station

S. of County Rd.

Lamar OK 74850

Landholding Agency: GSA

Property Number: 54201240002

Status: Excess

GSA Number: 7-B-OK-0581

Comments: 152 sf.; sits on 4.65 acres; storage

Oregon

3 Bldgs./Land

OTHR-B Radar

Cty Rd 514

Christmas Valley OR 97641

Landholding Agency: GSA

Property Number: 54200840003

Status: Excess

GSA Number: 9-D-OR-0768

Comments: 14000 sq. ft. each/2626 acres, most recent use—radar site, right-of-way

Pennsylvania

Old Marienville Compound

110 South Forest St.

Marienville PA 16239

Landholding Agency: GSA

Property Number: 54201230001

Status: Excess

GSA Number: 4-A-PA-808AD

Directions: 10 bldgs.; wood farm duplex; office/garage; pole bard; shop; (2) wood sheds; block shed; trailer; carport; toilet bldg.

Comments: sq. ft. for ea. bldg. on property varies; contact GSA for specific sq. ft.; Forest Service Admin. complex; mold and lead identified; historic property

Texas

Veterans Post Office

1300 Mutamoros St.

Laredo TX 78040

Landholding Agency: GSA

Property Number: 54201240001

Status: Excess

GSA Number: 7-G-TX-1055-AA

Comments: CORRECTION: Approximately 57,380.; sits on 1.2 acres; office; 105 yrs.-old; historic preservation restrictions on bldg. & ground

Utah

2 Buildings

9160 N. Hwy 83

Corinne UT 84307

Landholding Agency: GSA

Property Number: 54201230003

Status: Excess

GSA Number: 7-Z-UT-0533

Directions: T077 & T078; NASA Shuttle Storage Warehouses

Comments: off-site removal only; approx. 3,200 sf. each; storage

Washington

Log House

281 Fish Hatchery Rd.

Quilcene WA 98376

Landholding Agency: GSA

Property Number: 54201220006

Status: Excess

GSA Number: 9-I-WA-1260

Comments: off-site removal only; 3,385 sf.; residential/office

Wisconsin

Wausau Army Reserve Ctr.

1300 Sherman St.

Wausau WI 54401

Landholding Agency: GSA

Property Number: 54201210004

Status: Excess

GSA Number: 1-D-WI-610

Comments: bldg. 12,680 sq. ft.; garage 2,676 sq. ft.; current use: vacant; possible asbestos; remediation may be required; subjected to existing easements; Contact GSA for more detail

Land

Arizona

Land

95th Ave/Bethany Home Rd

Glendale AZ 85306

Landholding Agency: GSA

Property Number: 54201010014

Status: Surplus

GSA Number: 9-AZ-852

Comments: 0.29 acre, most recent use—irrigation canal

0.30 acre

Bethany Home Road

Glendale AZ 85306

Landholding Agency: GSA

Property Number: 54201030010

Status: Excess

GSA Number: 9-I-AZ-0859

Comments: 10 feet wide access road

California

Drill Site #3A

null

Ford City CA 93268

Landholding Agency: GSA

Property Number: 54201040004

Status: Surplus

GSA Number: 9-B-CA-1673-AG

Comments: 2.07 acres, mineral rights, utility easements

Drill Site #4

null

Ford City CA 93268

Landholding Agency: GSA

Property Number: 54201040005

Status: Surplus

GSA Number: 9-B-CA-1673-AB

Comments: 2.21 acres, mineral rights, utility easements

Drill Site #6

null

Ford City CA 93268

Landholding Agency: GSA

Property Number: 54201040006

Status: Surplus

GSA Number: 9-B-CA-1673-AC

Comments: 2.13 acres, mineral rights, utility easements

Drill Site #9

null

Ford City CA 93268

Landholding Agency: GSA

Property Number: 54201040007

Status: Surplus

GSA Number: 9-B-CA-1673-AH

Comments: 2.07 acres, mineral rights, utility easements

Drill Site #20

null

Ford City CA 93268

Landholding Agency: GSA

Property Number: 54201040008

Status: Surplus

GSA Number: 9-B-CA-1673-AD

Comments: 2.07 acres, mineral rights, utility easements

Drill Site #24

null

Ford City CA 93268

Landholding Agency: GSA

Property Number: 54201040010

Status: Surplus

GSA Number: 9-B-CA-1673-AE

Comments: 2.06 acres, mineral rights, utility easements

Seal Beach RR Right of Way

West 19th Street

Seal Beach CA 90740

Landholding Agency: GSA

Property Number: 54201140015

Status: Surplus

GSA Number: 9-N-CA-1508-AF

Comments: 8,036.82 sq. ft.; current use: vacant lot

Seal Beach RR Right of Way

East 17th Street

Seal Beach CA 90740

Landholding Agency: GSA

Property Number: 54201140016

Status: Surplus

GSA Number: 9-N-CA-1508-AB

Comments: 9,713.88 sq. ft.; current use: private home

Seal Beach RR Right of Way

East of 16th Street

Seal Beach CA 90740

Landholding Agency: GSA

Property Number: 54201140017

Status: Surplus

GSA Number: 9-N-CA-1508-AG

Comments: 6,834.56 sq. ft.; current use: vacant

Seal Beach RR Right of Way

West of Seal Beach Blvd.

Seal Beach CA 90740

Landholding Agency: GSA

Property Number: 54201140018

Status: Surplus

GSA Number: 9-N-CA-1508-AA

Comments: 10,493.60 sq. ft.; current use: vacant lot

Seal Beach RR Right of Way

Seal Beach

Seal Beach CA 90740

Landholding Agency: GSA

Property Number: 54201210006

Status: Surplus

GSA Number: 9-N-CA-1508-AH

Comments: 4,721.90 sf.; current use: vacant lot between residential bldgs.

Seal Beach RR Right of Way

Seal Beach

Seal Beach CA 90740

Landholding Agency: GSA

Property Number: 54201210007

Status: Surplus

GSA Number: 9-N-CA-1508-AJ

Comments: 6,028.70 sf.; current use: vacant lot between residential bldgs.

Illinois

former Outer Marker Compass

2651 West 83rd Place

Chicago IL

Landholding Agency: GSA

Property Number: 54201220002

Status: Excess

GSA Number: 1-U-I-797

Comments: .22 acres; current use: airport outer marker

Kansas

1.64 Acres

Wichita Automated Flight Service

Anthony KS 67003

Landholding Agency: GSA

Property Number: 54201230002

Status: Excess

GSA Number: 7-U-KS-0526

Comments: Agricultural surroundings; remedial action has been taken for asbestos removal

Massachusetts

FAA Site

Massasoit Bridge Rd.

Nantucket MA 02554

Landholding Agency: GSA

Property Number: 54200830026

Status: Surplus

GSA Number: MA-0895

Comments: approx. 92 acres, entire parcel within MA Division of Fisheries & Wildlife Natural Heritage & Endangered Species Program

Michigan

FAA Outer Marker

Ash Rd. East of Clark Rd.

New Boston MI 48164

Landholding Agency: GSA

Property Number: 54201230009

Status: Excess

GSA Number: 1-U-MI-0840

Comments: .24 acres; located in a rural area; neighboring farm fields

FAA Outer Marker

N. Side of Avondale St., W. of Tobin Dr.

Inkster MI 48141

Landholding Agency: GSA

Property Number: 54201230010

Status: Excess

GSA Number: 1-U-MI-0841

Comments: .55 acres; located in a residential area; flat & grassy; public park located north of property

Missouri

Long Branch Lake

30174 Visitor Center Rd.

Macon MO 63552

Landholding Agency: GSA

Property Number: 54201230006

Status: Surplus

GSA Number: 7-D-MO-0579

Comments: 7.60 acres

SWPA-Jenkins Antenna Site

Barry County

Jenkins MO

Landholding Agency: GSA

Property Number: 54201230011

Status: Surplus

GSA Number: 7-B-MO-0696

Comments: 0.06 acres; surrounded by 5.18 acre easement that will be lifted when property is conveyed out of Fed. inventory; access to property by appt. only

Nevada

RBG Water Project Site

Bureau of Reclamation

Henderson NV 89011

Landholding Agency: GSA

Property Number: 54201140004

Status: Surplus

GSA Number: 9-I-AZ-0562

Comments: water easement (will not impact conveyance); 22±acres; current use: water sludge disposal site; lead from shotgun shells on <1 acre.

North Dakota

Vacant Land of MSR Site

Stanley Mickelsen

Nekoma ND

Landholding Agency: GSA

Property Number: 54201130009

Status: Surplus

GSA Number: 7-D-ND-0499

Comments: 201.2 acres; recent use: unknown

Pennsylvania

approx. 16.88

271 Sterrettania Rd.

Erie PA 16506

Landholding Agency: GSA

Property Number: 54200820011

Status: Surplus

GSA Number: 4-D-PA-0810

Comments: vacant land

Utah

BLM Kanab Field Office

318 N. 100 East

Kanab UT 84741

Landholding Agency: GSA

Property Number: 54201230012

Status: Surplus

GSA Number: 7-I-UT-0528

Directions: includes 6,192 sf. office bldg.; 4,800 sf. warehouse; 1,120 sf. storage/shed on property

Comments: 2.8 acre w/three bldgs.; access to property by appt. only; friable asbestos; remediation needed

[FR Doc. 2013-08887 Filed 4-18-13; 8:45 am]

BILLING CODE 4210-67-P